FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting on Monday, March 10, 2014 in the Commission Meeting Room, from 1 p.m. to 4 p.m. at the Federal Communications Commission, 445 12th Street SW., Washington, DC 20554.

DATES: March 10, 2014.

ADDRESSES: Federal Communications Commission, 445 12th Street SW., Washington, DC 20554.

FOR FURTHER INFORMATION CONTACT: Walter Johnston, Chief, Electromagnetic Compatibility Division, 202-418-0807; Walter.Johnston@FCC.gov.

SUPPLEMENTARY INFORMATION: The FCC Technological Advisory Council will discuss its proposed work program for 2014. The FCC will attempt to accommodate as many people as possible. However, admittance will be limited to seating availability. Meetings are also broadcast live with open captioning over the internet from the FCC Live Web page at http://www.fcc.gov/live/. The public may submit written comments before the meeting to: Walter Johnston, the FCC's Designated Federal Officer for Technological Advisory Council by email: Walter.Johnston@fcc.gov or U.S. Postal Service Mail (Walter Johnston, Federal Communications Commission, Room 7-A224, 445 12th Street SW., Washington, DC 20554). Open captioning will be provided for this event. Other reasonable accommodations for people with disabilities are available upon request. Requests for such accommodations should be submitted via email to fcc504@fcc.gov or by calling the Office of Engineering and Technology at 202-418-2470 (voice), (202) 418-1944 (fax). Such requests should include a detailed description of the accommodation needed. In addition, please include your contact information. The notice of this meeting was first published in the Federal Register March 10, 2014, only 0 days in advance of the meeting on March 10, 2014. While the publication did not meet the 15-day requirement for advance publication, exceptional circumstances warrant proceeding with the March 10, 2014 TAC meeting. TAC members were informed of the potential March 10 meeting at the December 9, 2013, public meeting of the Council with a confirmation of this date sent to them on December 17, 2013, and have been informed informally of the March meeting date on more than one occasion since then. A significant number of Council members have made business and travel plans in accordance with this schedule, and there is no date within one month of the planned date that will accommodate Council members' schedules. Delaying the meeting will also cause undue financial burdens on many of the members who have made travel arrangements. Further, recognizing the delay in Federal Register publication, the agency issued a Public Notice of this meeting on March 4, 2014, to mitigate the late Federal Register publication and as an additional way of advising the public of this meeting and their right to attend. The agency has also posted all TAC meeting dates on the FCC TAC Web site to further inform the public. As the March 2014 meeting date was discussed at the December 2013 public meeting of the Council, the meeting has now been broadly announced.

Federal Communications Commission.
Marlene H. Dortch,
Secretary.

[FR Doc. 2014-05091 Filed 3-7-14; 8:45 am]

BILLING CODE 6712-01-P